DEPARTMENT OF EDUCATION

Office of Elementary and Secondary Education; High School Equivalency Program

CFDA No. 84.141A

AGENCY: Department of Education.

ACTION: Correction; Notice inviting applications for new awards for fiscal year (FY) 2009.

SUMMARY: On December 23, 2008, we published in the Federal Register (73 FR 78751) a notice inviting applications for new awards for FY 2009 under the High School Equivalency Program. We are correcting the notice to specify the Deadline for Intergovernmental Review of applications submitted in this competition.

On page 78751, first column, under DATES:, after “Deadline for Transmittal of Applications: February 23, 2009.” add “Deadline for Intergovernmental Review: April 24, 2009.”.

On page 78752, first column, under 3. Submission Dates and Times:, after “Deadline for Transmittal of Applications: February 23, 2009.” add “Deadline for Intergovernmental Review: April 24, 2009.”.

FOR FURTHER INFORMATION CONTACT: David DeSoto, U.S. Department of Education, 400 Maryland Avenue, SW., room 3E344, Washington, DC 20202-6135. Telephone: (202) 260-8103.

If you use a telecommunications device for the deaf (TDD), call the Federal Relay Service (FRS), toll-free, at 1-800-877-8339.

Individuals with disabilities can obtain this document in an accessible format (e.g., braille, large print, audiotape, or computer diskette) on request to the contact person listed under FOR FURTHER INFORMATION CONTACT.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: December 31, 2008.
Kerri L. Briggs,
Assistant Secretary for Elementary and Secondary Education.

[FR Doc. E8-31464 Filed 1-5-09; 8:45 am]

BILLING CODE 4000-01-P